ENVIRONMENTAL PROTECTION AGENCY

40 CFR Part 170

[EPA-HQ-OPP-2011-0184; FRL-9910-56]

RIN 2070-AJ22

Pesticides; Agricultural Worker Protection Standard Revisions; Extension of Comment Period

AGENCY: Environmental Protection Agency (EPA).

ACTION: Proposed rule; extension of comment period.

SUMMARY: EPA issued a proposed rule in the Federal Register issue of March 19, 2014, concerning protections from pesticides for agricultural workers. This document extends the comment period for 60 days, from June 17, 2014, to August 18, 2014. The comment period is being extended to provide additional time for commenters to prepare their responses.

DATES: Comments, identified by docket identification (ID) number EPA-HQ-OPP-2011-0184, must be received on or before August 18, 2014.

ADDRESSES: Follow the detailed instructions as provided under ADDRESSES in the Federal Register document of March 19, 2014.

FOR FURTHER INFORMATION CONTACT: Kathy Davis, Field and External Affairs Division (7506P), Office of Pesticide Programs, Environmental Protection Agency, 1200 Pennsylvania Ave. NW., Washington, DC 20460-0001; telephone number: (703) 308-7002; email address: davis.kathy@epa.gov.

SUPPLEMENTARY INFORMATION: This document extends the public comment period established in the Federal Register issue of March 19, 2014 (79 FR 15444) (FRL-9395-8). In that document, public comments were required to be submitted on or before June 17, 2014. EPA is hereby extending that comment period to August 18, 2014.

To submit comments, or access the docket, please follow the detailed instructions as provided under ADDRESSES in the March 19, 2014 Federal Register document. If you have questions, consult the person listed under FOR FURTHER INFORMATION CONTACT.

List of Subjects in 40 CFR Part 170

Environmental protection, Agricultural worker, Farms, Pesticides and pests, Worker protection standards.

Dated: May 6, 2014.
Louise P. Wise,
Acting Assistant Administrator, Office of Chemical Safety and Pollution Prevention.

[FR Doc. 2014-10990 Filed 5-13-14; 8:45 am]

BILLING CODE 6560-50-P